DEPARTMENT OF AGRICULTURE

Forest Service

Revision of Land and Resource Management Plan for Flathead National Forest and an Amendment of the Helena, Kootenai, Lewis and Clark, and Lolo National Forest Plans To Incorporate Relevant Direction From the Northern Continental Divide Ecosystem Grizzly Bear Conservation Strategy

AGENCY: Forest Service, USDA.

ACTION: Extension of comment period.

SUMMARY: The Forest Service published a notice of intent to prepare an environmental impact statement in the Federal Register on March 6, 2015, initiating a 60-day comment period on the proposed action to revise the land and resource management plan (forest plan) of the Flathead National Forest and amend the forest plans of the Helena, Kootenai, Lewis and Clark, and Lolo National Forest Plans to incorporate relevant direction from the Northern Continental Divide Ecosystem Grizzly Bear Conservation Strategy. The closing date for that 60-day comment period is May 5, 2015; the Agency is extending the comment period for an additional 10 days.

DATES: Comments must be received by May 15, 2015.

ADDRESSES: Send or deliver written comments to the Flathead National Forest Supervisor's Office, Attn: Forest Plan Revision, 650 Wolfpack Way, Kalispell, Montana 59901. Comments may also be sent via email to flatheadplanrevision@fs.fed.us or via facsimile to (406) 758-5379. Further instructions for providing comments that will assist the planning team in reviewing comments can be found on the Flathead National Forest Web site www.fs.usda.gov/goto/flathead/fpr.

FOR FURTHER INFORMATION CONTACT: Joe Krueger, Forest Planner, Flathead National Forest, 650 Wolfpack Way, Kalispell, Montana 59901, (406) 758-5243, or at flatheadplanrevision@fs.fed.us. Information regarding the Flathead NF plan revision is available on the Forest's Plan Revision Web site at: www.fs.usda.gov/goto/flathead/fpr; information about the amendment is available at www.fs.usda.gov/goto/flathead/gbamend.

Individuals who use telecommunication devices for the deaf (TDD) may call the Federal Information Relay Service (FIRS) at 1-800-877-8339 between 8 a.m. and 8 p.m., Eastern Time, Monday through Friday.

SUPPLEMENTARY INFORMATION: As directed by the National Forest Management Act, the U. S. Department of Agriculture, Forest Service, is preparing the Flathead National Forest's revised forest plan and an amendment to provide relevant direction from the Northern Continental Divide Ecosystem (NCDE) Grizzly Bear Conservation Strategy into the forest plans for the Helena, Kootenai, Lewis and Clark and Lolo National Forests. The Forest Service will prepare a single environmental impact statement (EIS) for its revised forest plan and the amendment.

The revised Flathead forest plan will supersede the existing forest plan that was approved by the Regional Forester in 1986, and amended more than 20 times since. The existing Flathead forest plan will remain in effect until the revised forest plan takes effect. The management direction pertaining to grizzly bear within the current forest plans of the Helena National Forest, approved by the Regional Forester in 1986; Kootenai National Forest, approved by the Regional Forester in 2015; Lewis and Clark National Forest, approved by the Regional Forester in 1986; and Lolo National Forest, approved by the Regional Forester in 1986, as amended, will remain in effect until the proposed amendment takes effect.

In response to this notice, we are asking for comments on the proposed action so we may refine the proposed action and identify possible alternatives to the proposed action. Comments concerning the scope of the proposed action must be received by May 15, 2015. The draft EIS is expected in January 2016 and the final EIS is expected in June 2017.

The Flathead National Forest plan revision Web site (www.fs.usda.gov/goto/flathead/fpr) provides the full text of the proposed action, describing preliminary desired conditions, objectives, standards, guidelines, and other plan content; the 2014 Assessment; summaries of the public meetings and public meeting materials; and public comments. The forest plan amendment component of the proposed action for the Helena, Kootenai, Lewis and Clark, and Lolo National Forests is located at www.fs.usda.gov/goto/flathead/gbamend, which can be linked from the individual Forest's Web sites as well. The material available on these sites may be updated or revised at any time as part of the planning process.

The 2012 Planning Rule is explained in more detail on the Forest Service's Web site at http://www.fs.usda.gov/detail/planningrule/home/?cid=stelprdb5359471. The draft NCDE Grizzly Bear Conservation Strategy is currently available on the U.S. Fish and Wildlife Service's Web site at http://www.fws.gov/mountain-prairie/species/mammals/grizzly/continentalindex.html.

Dated: April 27, 2015.
Sharon LaBrecque,
Acting Forest Supervisor, Flathead National Forest.

[FR Doc. 2015-10213 Filed 4-30-15; 8:45 am]

BILLING CODE 3410-11-P